DEPARTMENT OF DEFENSE

Department of the Army; Corps of Engineers

Coastal Engineering Research Board; Meeting

AGENCY: Department of the Army, DoD.

ACTION: Notice of meeting.

SUMMARY: In accordance with Section 10(a)(2) of the Federal Advisory Committee Act (Pub. L. 92-463), announcement is made of the following committee meeting:

Name of Committee: Coastal Engineering Research Board (CERB).

Date of Meeting: 6-7 January 2005.

Place: Hyatt Regency DFW, DFW Airport, Texas.

Time: 1 p.m. to 5 p.m. (6 January 2005). 8 a.m. to 12 noon (7 January 2005).

FOR FURTHER INFORMATION CONTACT: Inquiries and notice of intent to attend the meeting may be addressed to Colonel James R. Rowan, Executive Secretary, U.S. Army Engineer Research and Development Center, Waterways Experiment Station, 3909 Halls Ferry Road, Vicksburg, Mississippi 39180-6199.

SUPPLEMENTARY INFORMATION: Proposed Agenda: An Executive Session of the Board will meet to discuss action items from past meetings and ongoing initiatives.

This meeting is open to the public, but since seating capacity of the meeting room is limited, advance notice of intent to attend, although not required, is requested in order to assure adequate arrangements for those wishing to attend.

Brenda S. Bowen,
Army Federal Register Liaison Officer.

[FR Doc. 04-27571 Filed 12-15-04; 8:45 am]

BILLING CODE 3710-61-M